DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 19, 2002.

Interested persons are invited to submit written comments regarding the subject matter of the investigations to the Director, Division of Trade Adjustment Assistance, at the address shown below, not later than August 19, 2002.

The petitions filed in this case are available for inspection at the Office of the Director, Division of Trade Adjustment Assistance, Employment and Training Administration, U.S. Department of Labor, Room C-5311, 200 Constitution Avenue, NW., Washington, DC 20210.

Signed at Washington, DC, this 22nd day of July, 2002.
Edward A. Tomchick,
Director, Division of Trade Adjustment Assistance.

Appendix
[Petitions Instituted on 07/22/2002]
TA-W | Subject firm (Petitioners) | Location | Date of petition | Product(s)
41,838 | Feralloy North American (Wkrs) | Melvindale, MI | 06/24/2002 | Customer Service.
41,839 | Ergo Systems, Inc. (Wkrs) | Green Lane, PA | 07/01/2002 | Computer Keyboard Supports.
41,840 | Corbin Ltd (Wkrs) | Huntington, WV | 06/21/2002 | Mens and Ladies Trousers and Shorts.
41,841 | E and A Technologies (Wkrs) | El Paso, TX | 07/01/2002 | Computer Parts.
41,842 | Bee Paper Co., Inc. (Wkrs) | Wayne, NJ | 06/14/2002 | Office Supplies.
41,843 | Guardsmark (Wkrs) | Morgantown, KY | 07/01/2002 | Customer Service.
41,844 | Unit Rig/Terex (IAM) | Tulsa, OK | 07/01/2002 | Dump Trucks and Parts.
41,845 | Norma Tech (Wkrs) | Watertown, CT | 07/01/2002 | Automotive Hose Clamps.
41,846 | Northwest Swissmatic (Wkrs) | Minneapolis, MN | 06/30/2002 | Cylindrical Machine Parts.
41,847 | Cooper Tools (UAW) | Cortland, NY | 06/25/2002 | Wire Rope and Chain Fittings.
41,848 | Jam'ng Five Inc. (Wkrs) | Medley, FL | 06/25/2002 | Cut Fabric for Children's Apparel.
41,849 | Neoplan USA Corp. (Wkrs) | Brownsville, TX | 06/27/2002 | Buses.
41,850 | Global Apparel LLC (Wkrs) | New York, NY | 03/11/2002 | Garments.
41,851 | Burlington Resources (Wkrs) | Houston, TX | 06/30/2002 | Oil and Natural Gas.
41,852 | Cookeville Stamping (Wkrs) | Cookeville, TN | 06/28/2002 | Appliance Parts.
41,853 | Glamorise (Wkrs) | Williamsport, PA | 06/12/2002 | Ladies' Underwear.
41,854 | ZF Industries, Inc. (Wkrs) | Tuscaloosa, AL | 06/17/2002 | Axles Sysem Units.
41,855 | Fibermark DSI (Wkrs) | Springfield, MA | 06/28/2002 | Specialty Paper.
41,856 | Corning Cable Systems (Co.) | Marshfield, MO | 06/28/2002 | Communications Shelters, Thermo Safes.
41,857 | DMI Furniture, Inc. (Co.) | Huntingburg, IN | 06/24/2002 | Office Furniture.
41,858 | G and G Sewing Machine Co (Co.) | Dunmore, PA | 06/18/2002 | Custom Sewing Units.
41,859 | King Press (Wkrs) | Joplin, MO | 06/27/2002 | Printing Presses.
41,860 | Oki Data Americas, Inc. (Co.) | Mount Laurel, NJ | 07/15/2002 | Ribbon and Toner Cartridges.
41,861 | U.S. Precision Glass (Co.) | Lewisburg, OH | 06/28/2002 | Flat Glass for Refrigerator Shelves.
41,862 | Gino and Jack Mfg. (UNITE) | Bath, PA | 06/28/2002 | Ladies Sportswear.
41,863 | Kalkstein Mills, Inc. (UNITE) | Paterson, NJ | 06/27/2002 | Textile and Weaving.
41,864 | Rock-Tenn Company (Co.) | Vineland, NJ | 06/27/2002 | Hard Back Book Covers.
41,865 | Amcor Speciality Packagin (Wkrs) | Newport News, VA | 06/06/2002 | Plastic Food Containers.
41,866 | Ingersoll-Rand Company (Co.) | Roanoke, VA | 06/27/2002 | Crawler Rock Drills, Downhole Drill Bits.
41,867 | Tee Jays Manufacturing (Co.) | Florence, AL | 07/02/2002 | Men's and Boys' Shirts.
41,868 | VF Imagewear Inc. (Co.) | Mt. Pleasant, TN | 07/12/2002 | Men's and Boys' Work Clothes.
41,869 | Skyworks Solutions, Inc. (Co.) | Woburn, MA | 07/11/2002 | Semiconductor Components.
41,870 | Cummins Inc. (Co.) | Montello, WI | 07/02/2002 | Gas Turbine Inlet/Exhaust Systems.
41,871 | Harvard Industries (UAW) | Albion, MI | 06/27/2002 | Drive Train Components.
41,872 | Breed Technologies, Inc. (UNITE) | Knoxville, TN | 07/03/2002 | Automotive Airbag and Seatbelt Component.
41,873 | The Boeing Company (UAW) | Melbourne, AR | 07/02/2002 | Aircrafts.
41,874 | Sebago, Inc. (Co.) | Gorham, ME | 07/12/2002 | Men's Women's and Kids' Footwear.
41,875 | Agrium Conda Phosphate (Co.) | Soda Springs, ID | 06/12/2002 | Phosphate Fertilizers.
41,876 | Meggitt Avionics (UNITE) | Manchester, NH | 03/26/2002 | Avionics.
41,877 | Willamette Industries (Co.) | Albany, OR | 07/13/2002 | Lumber.
41,878 | Doncasters Turbo (Wkrs) | Ivoryton, CT | 06/07/2002 | Turbine Glades.
41,879 | Scotty Fashions (UNITE) | Lehighton, PA | 07/15/2002 | Ladies Sportswear.

[FR Doc. 02-20203 Filed 8-8-02; 8:45 am]

BILLING CODE 4510-30-M